ENVIRONMENTAL PROTECTION AGENCY

[[EPA-HQ-OECA-2013-0298; FRL-9984-74-OEI]

Proposed Information Collection Request; Comment Request; NESHAP for Industrial, Commercial, and Institutional Boilers Area Sources (Renewal)

AGENCY: Environmental Protection Agency (EPA).

ACTION: Notice.

SUMMARY: The Environmental Protection Agency (EPA) is planning to submit an information collection request (ICR), NESHAP for Industrial, Commercial, and Institutional Boilers Area Sources (EPA ICR No. 2253.04, OMB Control No. 2060-0668) to the Office of Management and Budget (OMB) for review and approval in accordance with the Paperwork Reduction Act. Before doing so, EPA is soliciting public comments on specific aspects of the proposed information collection as described below. This is a proposed extension of the ICR, which is currently approved through October 31, 2018. An agency may not conduct or sponsor and a person is not required to respond to a collection of information unless it displays a currently valid OMB control number.

DATES: Comments must be submitted on or before November 30, 2018.

ADDRESSES: Submit your comments, referencing Docket ID No. EPA-HQ-OECA-2013-0298 online using www.regulations.gov (our preferred method), by email to docket.oeca@epa.gov, or by mail to: EPA Docket Center, Environmental Protection Agency, Mail Code 28221T, 1200 Pennsylvania Ave. NW, Washington, DC 20460.

EPA's policy is that all comments received will be included in the public docket without change including any personal information provided, unless the comment includes profanity, threats, information claimed to be Confidential Business Information (CBI) or other information whose disclosure is restricted by statute.

FOR FURTHER INFORMATION CONTACT: Patrick Yellin, Monitoring, Assistance, and Media Programs Division, Office of Compliance, Mail Code 2227A, Environmental Protection Agency, 1200 Pennsylvania Ave. NW, Washington, DC 20460; telephone number: (202) 564-2970; fax number: (202) 564-0050; email address: yellin.patrick@epa.gov.

SUPPLEMENTARY INFORMATION: Supporting documents, which explain in detail the information that the EPA will be collecting, are available in the public docket for this ICR. The docket can be viewed online at www.regulations.gov or in person at the EPA Docket Center, WJC West, Room 3334, 1301 Constitution Ave. NW, Washington, DC. The telephone number for the Docket Center is 202-566-1744. For additional information about EPA's public docket, visit http://www.epa.gov/dockets.

Pursuant to section 3506(c)(2)(A) of the PRA, EPA is soliciting comments and information to enable it to: (i) Evaluate whether the proposed collection of information is necessary for the proper performance of the functions of the Agency, including whether the information will have practical utility; (ii) evaluate the accuracy of the Agency's estimate of the burden of the proposed collection of information, including the validity of the methodology and assumptions used; (iii) enhance the quality, utility, and clarity of the information to be collected; and (iv) minimize the burden of the collection of information on those who are to respond, including through the use of appropriate automated electronic, mechanical, or other technological collection techniques or other forms of information technology, e.g., permitting electronic submission of responses. Burden is defined at 5 CFR 1320.03(b). EPA will consider the comments received and amend the ICR as appropriate. The final ICR package will then be submitted to OMB for review and approval. At that time, EPA will issue another Federal Register notice to announce the submission of the ICR to OMB and the opportunity to submit additional comments to OMB.

Abstract: The NESHAP for Industrial, Commercial, and Institutional Boilers Area Sources (40 CFR part 63, subpart JJJJJJ) affects new and existing industrial, commercial, and institutional boilers that are located at or part of area sources of hazardous air pollutants (HAP). The standard contains six subcategories: existing boilers designed to burn biomass, coal, or liquid fuels and new boilers designed to burn biomass, coal, or liquid fuels. The information collection activities include initial and annual stack tests, fuel analyses, operating parameter monitoring, biennial tune-ups, one-time energy audits, one-time and periodic reports, and maintenance of records. Varying levels of requirements apply to each subcategory. The information collection activities will enable EPA to determine initial and continuous compliance with emission standards for regulated pollutants, and ensure that facilities conduct proper planning, operation, and unit maintenance. The provisions of Section 114(a)(1) of the Clean Air Act, 42 U.S. C Section 7414(a)(1) provide the broad authority for the reporting of compliance monitoring and enforcement information, along with Subpart Q-Reports in 40 CFR 51: Sections 51.324(a) and (b), and 51.327.

Respondents: Owners and operators of industrial, commercial, or institutional boilers.

Respondent's obligation to respond: Mandatory (40 CFR 63, Subpart JJJJJJ).

Estimated number of respondents: 96,985 (total).

Frequency of response: Initially, biennially, semiannually and annually.

Annual estimated burden: 1,656,984 hours.

Annual estimated cost: $280.4 million, includes $125.5 million annualized capital or operation and maintenance (O&M) costs.

Changes in Estimates: There is a projected increase in burden due to continued growth rates for certain subcategories of equipment subject to the standard.

Courtney Kerwin,
Director, Regulatory Support Division.

[FR Doc. 2018-21261 Filed 9-28-18; 8:45 am]

BILLING CODE 6560-50-P